ENVIRONMENTAL PROTECTION AGENCY

[FRL-8269-9]

Science Advisory Board Staff Office; EPA Clean Air Scientific Advisory Committee (CASAC); Notification of Public Advisory Committee Meeting of the CASAC Lead Review Panel

AGENCY: Environmental Protection Agency (EPA).

ACTION: Notice.

SUMMARY: The Environmental Protection Agency (EPA or Agency) Science Advisory Board (SAB) Staff Office announces a public meeting of the Clean Air Scientific Advisory Committee (CASAC) Lead Review Panel (CASAC Panel) to conduct a peer review of the Draft Review of the National Ambient Air Quality Standards for Lead: Policy Assessment of Scientific and Technical Information (1st Draft Lead Staff Paper, December 2006) and a related draft technical support document, Lead Human Exposure and Health Risk Assessments and Ecological Risk Assessment for Selected Areas: Pilot Phase, Draft Technical Report (Draft Lead Exposure and Risk Assessments, December 2006).

DATES: The meeting will be held from 8:30 a.m. (Eastern Standard Time) on Tuesday, February 6, 2007, through 3 p.m. (Eastern Standard Time) on Wednesday, February 7, 2007.

Location: The meeting will take place at the Marriott at Research Triangle Park, 4700 Guardian Drive, Durham, NC 27703, phone: 919-941-6200.

FOR FURTHER INFORMATION CONTACT: Any member of the public who wishes to submit a written or brief oral statement (five minutes or less) or wants further information concerning this meeting must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC or the EPA SAB can be found on the EPA Web site at http://www.epa.gov/sab. Information concerning EPA technical contacts appears below in this Federal Register notice.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Lead Review Panel consists of the seven CASAC members supplemented by subject-matter-experts. The CASAC Lead Review Panel provides advice and recommendations to EPA concerning lead in ambient air. The Panel complies with the provisions of FACA and all appropriate SAB Staff Office procedural policies.

Section 109(d)(1) of the CAA requires that the Agency periodically review and revise, as appropriate, the air quality criteria and the national ambient air quality standards (NAAQS) for the six “criteria” air pollutants, including Lead. On September 30, 2006, EPA's National Center for Environmental Assessment National, Research Triangle Park (NCEA-RTP), within the Agency's Office of Research and Development (ORD), made available a document, Air Quality Criteria for Lead (EPA/600/R-05/144aC-bC). This final Lead air quality criteria document (AQCD) represented a revision to the previous EPA document, Air Quality Criteria for Lead, EPA-600/8-83/028aF-dF (published in June 1986) and an associated supplement (EPA-600/8-89/049F) published in 1990. The CASAC's most-recent letter to the Administrator concerning the draft Lead AQCD (EPA-CASAC-06-010, dated September 6, 2006) is posted on the SAB Web site at http://www.epa.gov/sab/pdf/casac-06-010.pdf. Detailed summary information on the Final AQCD for Lead is contained in a previous EPA Federal Register notice (71 FR 57508, September 29, 2006).

In December 2006, EPA's Office of Air Quality Planning and Standards (OAQPS), within the Office of Air and Radiation (OAR), released the 1st Draft Lead Staff Paper and the Draft Lead Exposure and Risk Assessments document as part of its review of the Lead NAAQS. The purpose of the 1st Draft Lead Staff Paper is to evaluate the policy implications of the key scientific and technical information contained in the Agency's Final AQCD for Lead and to identify critical elements that EPA staff believes should be considered in its review of the Lead NAAQS. The Lead Staff Paper is intended to “bridge the gap” between the scientific review contained in the Lead AQCD and the public health and welfare policy judgments required of the EPA Administrator in reviewing the Lead NAAQS. The Draft Lead Exposure and Risk Assessments technical support document describes the methodology and presents the results of the pilot phase human exposure and health risk assessments and ecological risk assessments for a number of case studies.

Technical Contacts: Any questions concerning the Agency's 1st Draft Lead Staff Paper should be directed to Dr. Deirdre Murphy, OAQPS, at phone: 919-541-0729, or e-mail: murphy.deirdre@epa.gov. Any questions about the human exposure and health risk analyses in the Draft Lead Exposure and Risk Assessments technical support document can be directed to Dr. Zachary Pekar, OAQPS, at phone: 919-541-3704, or e-mail: pekar.zachary@epa.gov; while questions about the environmental assessment can be directed to Ms. Ginger Tennant, OAQPS, at phone: 919-541-4072, or e-mail: tennant.ginger@epa.gov.

Availability of Meeting Materials: The 1st Draft Lead Staff Paper and the Draft Lead Exposure and Risk Assessments technical support document can be accessed via the Agency's Technology Transfer Network (TTN) Web site at URL http://www.epa.gov/ttn/naaqs/standards/pb/s_pb_index.html, in the “Documents from Current Review” section under “Staff Papers” and “Technical Documents,” respectively. In addition, a copy of the draft agenda and other materials for this CASAC meeting will be posted on the SAB Web site at http://www.epa.gov/sab/panels/casacorpanel.html prior to the meeting.

Procedures for Providing Public Input: Interested members of the public may submit relevant written or oral information for the CASAC Lead Review Panel to consider during the advisory process. Oral Statements: In general, individuals or groups requesting an oral presentation at a public meeting will be limited to five minutes per speaker, with no more than a total of one hour for all speakers. Interested parties should contact Mr. Butterfield, DFO, in writing (preferably via e-mail), by January 30, 2007, at the contact information noted above, to be placed on the list of public speakers for this meeting. Written Statements: Written statements should be received in the SAB Staff Office by Thursday, February 1, 2007, so that the information may be made available to the CASAC Panel for their consideration prior to this meeting. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: January 9, 2007.
Anthony F. Maciorowski,
Deputy Director, EPA Science Advisory Board Staff Office.

[FR Doc. E7-517 Filed 1-16-07; 8:45 am]

BILLING CODE 6560-50-P